DEPARTMENT OF COMMERCE

National Oceanic and Atmospheric Administration

[I.D. 040902D]

Western Pacific Fishery Management Council; Public Meeting

AGENCY: National Marine Fisheries Service (NMFS), National Oceanic and Atmospheric Administration (NOAA), Commerce.

ACTION: Notice of public meeting.

SUMMARY: The Western Pacific Fishery Management Council’s (Council) Pelagics Plan Team (PPT) members will hold a meeting.

DATES: The meeting will be held April 30, 2002 through May 2, 2002, from 8:30 a.m. to 5 p.m., each day.

ADDRESSES: The meeting will be held at the Western Pacific Fishery Management Council office, 1164 Bishop St., Suite 1400, Honolulu, HI 96813.

FOR FURTHER INFORMATION CONTACT: Kitty M. Simonds, Executive Director; telephone: 808-522-8220.

SUPPLEMENTARY INFORMATION: The PPT meeting will discuss and may make recommendations to the Council on the following agenda items:

1. 2001 annual report modules for American Samoa, Guam, Hawaii and the Commonwealth of the Northern Mariana Islands;

2. The economic impacts of swordfish longline fishery closure in Hawaii;

3. First quarter 2002 Hawaii and American Samoa longline fishery reports;

4. Hawaii Marine Recreational Fisheries Survey;

5. American Samoa longline limited entry program;

6. Maximum sustainable yield (MSY)-overfishing control rule;

7. Northwestern Hawaiian Islands National Marine Sanctuary and pelagic fisheries;

8. Sea turtle conservation and management;

i. Cooperative sea turtle research and conservation workshop;

ii. Status of field experiments to reduce longline turtle bycatch;

iii. Longline setting chute trials;

9. NMFS Honolulu Laboratory pelagic fish stock assessments;

10. NMFS Honolulu Laboratory moonfish (opah) and pomfret (monchong) study;

11. Ecosystem-based pelagic fisheries management;

12. Bigeye and yellowfin longline fishery performance models;

13. Hawaii longline fishery logbook and observer data evaluation;

14. Western Pacific pelagic fishery regulatory issues;

15. Preparatory Conference for Western Pacific Tuna Commission, and other international fishery meetings; and

16. Other business as required.

Special Accommodations

This meeting is physically accessible to people with disabilities. Requests for sign language interpretation or other auxiliary aids should be directed to Kitty M. Simonds, 808-522-8220 (voice) or 808-522-8226 (fax), at least 5 days prior to meeting date.

Dated: April 9, 2002.
Richard W. Surdi,
Acting Director, Office of Sustainable Fisheries, National Marine Fisheries Service.

[FR Doc. 02-9087 Filed 4-12-02; 8:45 am]

BILLING CODE 3510-22-S